DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-0361.

Proposed Project: 2023-2026 National Survey on Drug Use and Health: Methodological Field Tests (OMB No. 0930-0290)—Extension

The National Survey on Drug Use and Health (NSDUH) is a survey of the U.S. civilian, non-institutionalized population aged 12 years old or older. The data are used to provide estimates of substance use and mental illness at the national, state, and substate levels. NSDUH data also help to identify the extent of substance use and mental illness among different subgroups, estimate trends over time, and determine the need for treatment services. The results are used by SAMHSA, the Office of National Drug Control Policy (ONDCP), Federal Government agencies, and other organizations and researchers to establish policy, direct program activities, and better allocate resources.

Methodological tests will continue to examine the feasibility, quality, and efficiency of new procedures or revisions to existing survey protocol. Specifically, the tests will measure the reliability and validity of certain questionnaire sections and items through multiple measurements on a set of respondents; assess new methods for gaining cooperation and participation of respondents with the goal of increasing response and decreasing potential bias in the survey estimates; and assess the impact of new sampling techniques and technologies on respondent behavior and reporting. Research will involve focus groups, cognitive laboratory testing, and field tests. Prior to each methodological test, a separate clearance memo (under this generic clearance) will be presented to OMB for review.

These methodological tests will continue to examine ways to increase data quality, lower operating costs, and gain a better understanding of sources and effects of non-sampling error on NSDUH estimates. Particular attention will be given to minimizing the impact of design changes so survey data can be comparable over time. If findings suggest changes that might lead to improvements to the study, current procedures or data collection instruments may be revised.

The number of respondents to be included in each field test will vary, depending on the nature of the subject being tested and the target population. However, the total estimated response burden is 14,801 hours. The exact number of subjects and burden hours for each test are unknown at this time, but will be clearly outlined in each individual submission. These estimated burden hours over three years are as follows:

Estimated Total Burden for NSDUH Methodological Field Tests
Activity | Number of respondents | Responses per respondent | Total number of responses | Average burden per response | Total burden (hrs.)
a. Focus Groups | 378 | 1 | 378 | 2.0 hrs | 756
b. Respondent screening for a | 473 | 1 | 473 | 0.083 hr | 39
c. Cognitive testing | 420 | 1 | 420 | 1.0 hr | 420
d. Respondent screening for c | 800 | 1 | 800 | 0.083 hr | 66
e. Field Tests | 12,000 | 1 | 12,000 | 1.0 hr | 12,000
f. Household screening for e | 16,200 | 1 | 16,200 | 0.083 hr | 1,345
g. Screening Verification for e | 804 | 1 | 804 | 0.067 hr | 54
h. Interview Verification for e | 1,800 | 1 | 1,800 | 0.067 hr | 121
Total | 32,875 |  | 32,875 |  | 14,801

Written comments and recommendations for the proposed information collection should be sent within 30 days of publication of this notice to www.reginfo.gov/public/do/PRAMain. Find this particular information collection by selecting “Currently under 30-day Review—Open for Public Comments” or by using the search function.

Alicia Broadus,
Public Health Advisor.

[FR Doc. 2023-07407 Filed 4-7-23; 8:45 am]

BILLING CODE 4162-20-P